DEPARTMENT OF EDUCATION

Notice Inviting Applications for Funds Under the Higher Education Emergency Relief Fund (HEERF), Section 2003 of the American Rescue Plan (ARP) for Institutions of Higher Education That Meet the Criteria for the Minority Serving Institutions (MSIs) Program

AGENCY: Office of Postsecondary Education, Department of Education.

ACTION: Notice.

SUMMARY: The Secretary is announcing the availability of new HEERF funding for the ARP (a)(2) grant program authorized under ARP section 2003(2) and inviting applications under Assistance Listing Number (ALN)84.425L from eligible public and private nonprofit IHEs to address needs directly related to the coronavirus. These awards are in addition to the ARP (a)(1) grants and have been allocated by the Secretary proportionally to funding for MSI programs in the Further Consolidated Appropriations Act, 2020. The institutions eligible for this funding include institutions that generally would be eligible to apply for the following grant programs under the Higher Education Act of 1965, as amended (HEA), and that are listed on the ARP (a)(2) MSI Allocation Table: Title V, part A Developing Hispanic Serving Institutions, Title V, part B Promoting Postbaccalaureate Opportunities for Hispanic Americans, and the following Title III Part A programs: Strengthening Asian American and Native American Pacific Islander-Serving Institutions (AANAPISI), Strengthening Alaska Native and Native Hawaiian-Serving Institutions (ANNH), Strengthening Native American-Serving Nontribal Institutions (NASNTI), and Strengthening Predominantly Black Institutions (PBI). This notice relates to the approved information collection under OMB control number 1840-XXXX.

DATES:

Applications Available: August 2, 2021.

Deadline for Transmittal of Applications: Applications will be accepted on a rolling basis until October 1, 2021.

ADDRESSES: For the addresses to obtain and submit an application, please refer to the Common Instructions for Applicants to the Department of Education Discretionary Grant Programs, published in the Federal Register on February 13, 2019 (84 FR 3768) and available at https://www.federalregister.gov/documents/2019/02/13/2019-02206/common-instructions-for-applicants-to-department-of-education-discretionary-grant-programs.

FOR FURTHER INFORMATION CONTACT: Karen Epps, U.S. Department of Education, 400 Maryland Avenue SW, Room 250-64, Washington, DC 20202. Department of Education HEERF Customer Care Center Phone: (202) 377-3711. Email: HEERF@ed.gov. Please also visit the HEERF III website at: https://www2.ed.gov/about/offices/list/ope/arp.html.

If you use a telecommunications device for the deaf (TDD) or a text telephone (TTY), call the Federal Relay Service (FRS), toll-free, at 1-800-877-8339.

SUPPLEMENTARY INFORMATION:

Full Text of Announcement

Background: On March 11, 2021, the President signed the ARP into law (Pub. L. 117-2). This law makes available approximately $39.6 billion for IHEs under HEERF, with funding appropriated through existing programs authorized under the CRRSAA.

With this notice, the Secretary is announcing the availability of HEERF grant funds under the ARP (a)(2) MSI program (ALN 84.425L).

Eligible institutions are IHEs, as defined in sections 101 and 102(c) of the HEA, 20 U.S.C. 1001 and 1002(c). Allocations for eligible IHEs will be calculated according to the formulas found in ARP section 2003(2) and section 314(a)(2) of the CRRSAA. Under ARP section 2003, grant awards under this program may be used to (1) defray expenses associated with the coronavirus, including lost revenue, reimbursement for expenses already incurred, technology costs associated with a transition to distance education, faculty and staff training, and payroll; and (2) provide financial aid grants to students (including students exclusively enrolled in distance education), which may be used for any component of the student's cost of attendance or for emergency costs that arise due to the coronavirus, such as tuition, food, housing, health care, mental health care, or childcare. In making financial aid grants to students, an IHE must prioritize grants to students with exceptional need, such as Pell recipient students. IHEs are urged to devote the maximum amount of funds possible to student financial aid grants.

Additionally, under ARP section 2003(5), institutions must use a portion of their funds under ALN 84.425L to (1) implement evidence-based practices to monitor and suppress coronavirus in accordance with the public health guidelines; and (2) conduct direct outreach to financial aid applicants about the opportunity to receive a financial aid adjustment due to recent unemployment status or other changes in financial circumstances as described in section 479A of the HEA (20 U.S.C. 1087tt).

The Department is not requiring IHEs that received grants under section 314(a)(2) of the CRRSAA to submit a new or revised application to receive funding under the ARP (a)(2) MSI program. As a result, the Department will award supplemental funds to eligible IHEs that received a section 314(a)(2) award under the CRRSAA, ALN 84.425L (identified by a Grant Award beginning with P425Lxx). No action is required by eligible IHEs to receive these supplemental awards. The project director identified on the most current Grant Award Notification (GAN) will automatically receive an email indicating a supplemental award has been made to your institution. Please note that drawing down any amount of these supplemental funds constitutes an institution's acceptance of the new ARP terms and conditions and a new Supplemental Agreement, which are attached to this notice for reference.

IHEs that have not yet complied with the reporting requirements of the HEERF grant program may receive delayed supplemental ARP (a)(2) awards and/or may receive awards with a restriction on the ability to draw down those awarded funds (route payment status) until the institution has satisfied its HEERF reporting obligations.

IHEs that did not receive a CRRSAA section 314(a)(2) MSI award but that are on the Department's section 2003(2) ARP MSI Allocation Table may apply for and receive an ARP (a)(2) MSI grant award. The Department must receive an application from such institutions within 60 days of the publication of this notice.

Program Authority: Section 2003 of the ARP and section 314 of the CRRSAA.

Applicable Regulations: (a) The Education Department General Administrative Regulations in 34 CFR parts 75, 77, 81, 82, 84, 86, 97, 98, and 99. (b) The Office of Management and Budget Guidelines to Agencies on Governmentwide Debarment and Suspension (Non-procurement) in 2 CFR part 180, as adopted and amended as regulations of the Department in 2 CFR part 3485. (c) The Uniform Administrative Requirements, Cost Principles, and Audit Requirements for Federal Awards in 2 CFR part 200, as adopted and amended as regulations of the Department in 2 CFR part 3474.

II. Award Information

Type of Award: Formula grants.

Estimated Available Funds: $767.3 million.

Grant Period: Institutions must expend funds received under this program within 12 months of the obligation of the funds by the Department.

III. Eligibility Information

1. Eligible Applicants: Public and private nonprofit IHEs, as defined in sections 101 and 102(c) of the HEA, that are eligible for certain programs under part A of title III and parts A and B of title V of the HEA.

2. Cost Sharing or Matching: This program does not require cost sharing or matching.

3. Subgrantees: Subgrantees are not allowed under this program.

IV. Application and Submission Information

1. Application Submission Instructions: Applicants are required to submit their applications using Grants.gov. To register for Grants.gov, please visit their “How to Apply for Grants” web page (https://www.grants.gov/applicants/apply-for-grants.html) or call their Applicant Support helpdesk at 1-800-518-4726.

Each completed application must consist of—

• A complete SF-424;

• Supplemental Information for the SF-424; and

• The Certification and Agreement (C&A) for an Award under Section 2003 for ARP (a)(2).

Note: The applicant must submit the corresponding C&A for the funds requested. Each C&A must be completed and include the correct OPEID and DUNS number of the institution requesting funds. Each grantee will receive the amount calculated for them and listed in the ARP (a)(2) MSI Allocation Table.

2. Intergovernmental Review: This program is subject to Executive Order 12372 and the regulations in 34 CFR part 79. However, under 34 CFR 79.8(a), we waive intergovernmental review to make timely awards.

3. Funding Restrictions: We specify funding restrictions in the Certificate and Agreement.

4. Data Universal Numbering System Number, Taxpayer Identification Number, and System for Award Management: In general, to do business with the Department, you must—

(a) Have a Data Universal Numbering System (DUNS) number and a Taxpayer Identification Number (TIN);

(b) Register both your DUNS number and TIN with the System for Award Management (SAM), the Government's primary registrant database;

(c) Provide your DUNS number and TIN on your SAM application; and

(d) Maintain an active SAM registration with current information while your application is under review by the Department and, if you are awarded a grant, during the project period.

You can obtain a DUNS number at the following website: http://fedgov.dnb.com/webform. A DUNS number can be created within one to two business days.

If you are a corporate entity, agency, institution, or organization, you can obtain a TIN from the Internal Revenue Service. If you are an individual, you can obtain a TIN from the Internal Revenue Service or the Social Security Administration. If you need a new TIN, please allow two to five weeks for your TIN to become active. The SAM registration process can take approximately seven business days but may take upwards of several weeks, depending on the completeness and accuracy of the data you enter into the SAM database. If you want to apply for Federal financial assistance under a program administered by the Department, please allow sufficient time to obtain and register your DUNS number and TIN.

If you are currently registered with SAM, you may not need to make any changes. However, please make sure that the TIN associated with your DUNS number is correct. Also, note that you will need to update your registration annually. This process may take three or more business days.

Information about SAM is available at www.SAM.gov. To further assist you with obtaining and registering your DUNS number and TIN in SAM or updating your existing SAM account, please see our SAM.gov Tip Sheet, at: https://www2.ed.gov/fund/grant/apply/sam-faqs.html.

In addition, in order to submit your application via Grants.gov, you must (1) register as an applicant using your DUNS number and (2) be designated by your organization's E-Biz Point of Contact as an Authorized Organization Representative (AOR). Details on these steps are outlined at the following Grants.gov web page: https://www.grants.gov/web/grants/register.html.

V. Award Administration Information

1. Award Notices: If you receive a grant award under this program, we will send you a Grant Award Notification (GAN) or an email containing a link to access an electronic version of your GAN.

2. Reporting: Reporting requirements are specified in the C&A.

VI. Other Information

Accessible Format: Individuals with disabilities can obtain this document in an accessible format on request to the program contact person listed under FOR FURTHER INFORMATION CONTACT. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov/. At this site, you can view this document, and other documents of this Department published in the Federal Register, in text or Portable Document Format (PDF). To use PDF, you must have Adobe Acrobat Reader, which is available free at the site.

You may also access documents of the Department published in the Federal Register by using the article search feature at www.federalregister.gov/. Specifically, through the advanced search feature at this site, you can limit your search to documents published by the Department.

Annmarie Weisman,
Deputy Assistant Secretary for Policy, Planning and Innovation, Office of Postsecondary Education.

American Rescue Plan Act of 2021

Supplemental Agreement for an Award Under ARP (a)(2) (ALN 84.425 J, K, L, M)

Supplemental Grant Funds

The terms, conditions, and requirements governing your institution's (Recipient's) use of these supplemental grant funds awarded pursuant to section 2003 of the American Rescue Plan Act of 2021 (ARP) (Pub. L. 117-2) (supplemental award or grant) by the U.S. Department of Education (Department) are governed by section 2003 of the ARP and section 314 of the Coronavirus Response and Relief Supplemental Appropriations Act, 2021 (CRRSAA) (Pub. L. 116-260) and the following terms and conditions of this Supplemental Agreement.

BY DRAWING DOWN THESE GRANT FUNDS, YOU AGREE TO BE BOUND BY THE CONDITIONS SET FORTH ON BEHALF OF THE INSTITUTION YOU REPRESENT, AND YOU WARRANT THAT YOU HAVE THE AUTHORITY TO BIND THE INSTITUTION TO THE FOLLOWING CONDITIONS

Use of Supplemental Grant Funds

1. Section 314(a)(2) of CRRSAA authorizes the Secretary to make additional awards under parts A and B of title III, parts A and B of title V, and subpart 4 of part A of title VII of the Higher Education Act of 1965, as amended (“HEA”), to address needs directly related to the coronavirus. These awards are in addition to awards made in Section 2003 for the ARP funding stream and have been allocated by the Secretary proportionally to such programs based on the relative share of funding appropriated to such programs in the Further Consolidated Appropriations Act, 2020 (Pub. L. 116-94).

2. Pursuant to Section 314(c) of CRRSAA, Recipient may use this award to defray expenses associated with the coronavirus (including lost revenue, reimbursement for expenses already incurred, technology costs associated with a transition to distance education, faculty and staff trainings, and payroll); and make additional emergency financial grants to students, which may be used for any component of the student's cost of attendance or for emergency costs that arise due to coronavirus, such as tuition, food, housing, health care (including mental health care), or child care.

3. Under section 2003(5) of the ARP, Recipient must use a portion of their funds received under this supplemental award to (a) implement evidence-based practices to monitor and suppress coronavirus in accordance with public health guidelines and (b) conduct direct outreach to financial aid applicants about the opportunity to receive a financial aid adjustment due to the recent unemployment of a family member or independent student, or other circumstances, described in section 479A of the HEA (20 U.S.C. 1087tt).

4. The Secretary urges Recipient to devote the maximum amount of funds possible to emergency financial aid grants to students. The Secretary urges Recipient to take strong measures to ensure that emergency financial aid grants to students are made to the maximum extent possible.

5. Recipient acknowledges that no supplemental grant funds may be used to fund construction; acquisition of real property; contractors for the provision of pre-enrollment recruitment activities; marketing or recruitment; endowments; capital outlays associated with facilities related to athletics, sectarian instruction, or religious worship; senior administrator or executive salaries, benefits, bonuses, contracts, incentives; stock buybacks, shareholder dividends, capital distributions, and stock options; or any other cash or other benefit for a senior administrator or executive.

6. Recipient acknowledges that it may voluntarily decline all or a portion of its ARP (a)(2) funds. The recipient may indicate this by submitting the Voluntary Decline of HEERF form (OMB Control Number 1840-0856) to the Department by August 11, 2021. Recipient further acknowledges if it submits this form, it will be ineligible for the future redistribution of ARP HEERF grant funds to other institutions with greater needs due to the coronavirus.

Grant Administration

7. Recipient acknowledges that consistent with 2 CFR 200.305, it must minimize the time between drawing down funds from G5 and paying incurred obligations (liquidation). Recipient further acknowledges that if it draws down funds and does not pay the incurred obligations (liquidates) within three calendar days it may be subject to heightened scrutiny by the Department, Recipient's auditors, and/or the Department's Office of Inspector General (OIG). Recipient further acknowledges that returning funds pursuant to mistakes in drawing down excessive grant funds in advance of need may also be subject to heightened scrutiny by the Department, Recipient's auditors, and/or the Department's OIG. Finally, Recipient acknowledges that it must maintain drawn down grant funds in an interest-bearing account, and any interest earned on all Federal grant funds above $500 (all Federal grants together) during an institution's fiscal year must be returned (remitted) to the Federal government via a process described here: https://www2.ed.gov/documents/funding-101/g5-returning-interest.pdf.

8. Recipient may charge indirect costs to supplemental funds made available under this award consistent with its negotiated indirect cost rate agreement. If Recipient does not have a current negotiated indirect cost rate with its cognizant agency for indirect costs, it may appropriately charge the de minimis rate of ten percent of Modified Total Direct Costs (MTDC) under 2 CFR 200.414. Recipient may also charge reasonable direct administrative costs to the supplemental funds made available under this award.

9. Recipient acknowledges that any obligation under this grant (pre-award costs pursuant to 2 CFR 200.458) must have been incurred on or after March 13, 2020, the date of the declaration of a National Emergency Concerning the Novel Coronavirus Disease (COVID-19) Outbreak (85 FR 15337).

10. Recipient must promptly and to the greatest extent practicable expend all grant funds from this award within the one-year period of performance (2 CFR 200.77) specified in Box 6 of this Grant Award Notification (GAN).

11. Recipient must, to the greatest extent practicable, continue to pay its employees and contractors during the period of any disruptions or closures related to coronavirus pursuant to section 315 of the CRRSAA.

12. Recipient acknowledges that its failure to draw down any amount ($1 or more) of its HEERF grant funds from the institution's HEERF account within 90 days of the date of this supplemental award will constitute nonacceptance of the terms, conditions, and requirements of this Supplemental Agreement and of these supplemental grant funds. In such event, the Department, in its sole discretion, may choose to deobligate these supplemental grant funds or take other appropriate administrative action, up to and including terminating the grant award pursuant to 2 CFR 200.340.

Reporting and Accountability

13. Recipient must promptly and timely provide a detailed accounting of the use and expenditure of the funds provided by this supplemental award in such manner and with such frequency as the Secretary may require. Recipient acknowledges the Department may require additional or more frequent reporting to be specified by the Secretary.

14. Recipient must comply with all requirements of the Single Audit Act Amendments of 1996, 31 U.S.C. 7501, et seq. (Single Audit Act) and all applicable auditing standards. Considering that the HEERF grant program is a new program not previously audited or subjected to Department oversight, and the inherent risk that comes with a new program, the Department strongly suggests that the HEERF grant program be audited as a major program in the first fiscal year(s) that the institution received a HEERF grant.

15. Recipient acknowledges it is under a continuing affirmative duty to inform the Department if Recipient is to lose its accreditation, close or terminate operations as an institution, or merge with another institution. In such cases, Recipient must promptly notify in writing the assigned education program officer contact in Box 3. Additionally, Recipient must promptly notify the assigned education program officer if the Recipient's Authorized Representative changes.

16. Recipient must cooperate with any examination of records with respect to the advanced funds by making records and authorized individuals available when requested, whether by (a) the Department and/or its OIG; or (b) any other Federal agency, commission, or department in the lawful exercise of its jurisdiction and authority. Recipient must retain all financial records, supporting documents, statistical records, and all other non-Federal entity records pertinent to a Federal award for a period of three years from the date of submission of the final expenditure report pursuant to 2 CFR 200.334.

17. Recipient acknowledges that failure to comply with this Supplemental Agreement, its terms and conditions, and/or all relevant provisions and requirements of the CRRSAA or ARP or any other applicable law may result in Recipient's liability under the False Claims Act, 31 U.S.C. 3729, et seq.; OMB Guidelines to Agencies on Governmentwide Debarment and Suspension (Nonprocurement) in 2 CFR part 180, as adopted and amended as regulations of the Department in 2 CFR part 3485; 18 U.S.C. 1001, as appropriate; and all of the laws and regulations referenced in the “Applicable Law” section of this Supplemental Agreement, below.

Applicable Law

18. Recipient must comply with all applicable assurances in OMB Standard Forms (SF) SF-424B and SF-424D (Assurances for Non-Construction and Assurances for Construction Programs), including the assurances relating to the legal authority to apply for assistance; access to records; conflict of interest; nondiscrimination; Hatch Act provisions; labor standards; Single Audit Act; and the general agreement to comply with all applicable Federal laws, executive orders, and regulations.

19. Recipient certifies that with respect to the certification regarding lobbying in Department Form 80-0013, no Federal appropriated funds have been paid or will be paid to any person for influencing or attempting to influence an officer or employee of any agency, a Member of Congress, an officer or employee of Congress, or an employee of a Member of Congress in connection with the making or supplementing of Federal grants under this program; Recipient must complete and submit Standard Form-LLL, “Disclosure Form to Report Lobbying,” when required (34 CFR part 82, Appendix B).

20. Recipient must comply with the provisions of all applicable acts, regulations and assurances; the following provisions of Education Department General Administrative Regulations (EDGAR) 34 CFR parts 75, 77, 81, 82, 84, 86, 97, 98, and 99; the OMB Guidelines to Agencies on Governmentwide Debarment and Suspension (Nonprocurement) in 2 CFR part 180, as adopted and amended as regulations of the Department in 2 CFR part 3485; and the Uniform Administrative Requirements, Cost Principles, and Audit Requirements for Federal Awards in 2 CFR part 200, as adopted and amended as regulations of the Department in 2 CFR part 3474.

[FR Doc. 2021-16348 Filed 7-30-21; 8:45 am]

BILLING CODE 4000-01-P